DEPARTMENT OF THE INTERIOR

Fish and Wildlife Service

Availability of Draft Comprehensive Conservation Plan and Environmental Assessment for Antioch Dunes National Wildlife Refuge, Contra Costa County, California

AGENCY: Fish and Wildlife Service, Interior.

ACTION: Notice of availability.

SUMMARY: The U.S. Fish and Wildlife Service announces that a Draft Comprehensive Conservation Plan and Environmental Assessment (CCP/EA) for Antioch Dunes National Wildlife Refuge (Refuge) is available for review and comment. This CCP/EA, prepared pursuant to the National Wildlife Refuge System Improvement Act of 1997 and the National Environmental Policy Act of 1969, describes how the U.S. Fish and Wildlife Service intends to manage the Refuge for the next 15 years. Also available for review with the CCP/EA are draft compatibility determinations for environmental education, interpretation, wildlife observation, and photography, and research.

DATES: Please submit comments on the Draft CCP/EA on or before December 3, 2001.

ADDRESSES: Comments of the Draft CCP/EA should be addressed to: Mark Pelz, Planning Team Leader, U.S. Fish and Wildlife Service, California/Nevada Refuge Planning Office, 2800 Cottage Way, Room W-1916, Sacramento, CA 95825. Comments may also be submitted via electronic mail to FW1PlanningComments@fws.gov. Please type “Antioch Dunes NWR” in the subject line.

FOR FURTHER INFORMATION CONTACT: Mark Pelz, U.S. Fish and Wildlife Service, California/Nevada Refuge Planning Office, Room W-1916, 2800 Cottage Way, Sacramento, California, 95825; 916-414-6500; fax 916-414-6512.

SUPPLEMENTARY INFORMATION:

Availability of Documents

Copies of the Draft CCP/EA may be obtained by writing to U.S. Fish and Wildlife Service, Attn: Mark Pelz, California/Nevada Refuge Planning Office, Room W-1916, 2800 Cottage Way, Sacramento, California, 95825. Copies of the plan may be viewed at this address or at the San Francisco Bay NWR Complex Headquarters, #1 Marshlands Road, Fremont, California. The Draft CCP/EA will also be available online for viewing and download at http://pacific.fws.gov/planning.

Background

The Antioch Dunes Refuge was the first National Wildlife Refuge in the country established to protect endangered plants and insects. Created in 1980 by the U.S. Fish and Wildlife Service (Service), this riverside Refuge provides protection and critical habitat for three endangered species: Lange's metalmark butterfly (Apodemia mormo langei) (Lange's), Contra Costa wallflower (Erysimum capitatum ssp. angustatum) (wallflower), and Antioch Dunes evening primrose (Oenothera deltoides ssp. howellii) (primrose). The Refuge, 55-acres of former dunes, in addition to the adjacent 12 acres of Pacific Gas and Electric Company (PG&E) land, is an isolated patch of what was once a larger dune system that hosted a unique assemblage of plants, insects, and reptiles. A major effort is currently underway to restore and improve dune habitat on the Refuge. The Refuge staff is based in the San Francisco Bay National Wildlife Refuge Complex office in Fremont, California.

This Draft CCP/EA identifies and evaluates four alternatives for managing the Refuge for the next 15 years. Alternative D is the Service's preferred alternative.

Under Alternative A (No Action), current management and public use would continue unchanged. The Refuge would continue its current weed control program. Various control methods would be used, including hand weeding, treating with herbicide, and prescribed fire. As opportunities arise, the Refuge would recontour existing sand dunes at the Refuge by using heavy equipment to reshape existing sand substrate into steep dunes and by importing sand from offsite. The Service would continue to outplant primrose, wallflower, and buckwheat on an as-needed basis. Annual surveys of the three endangered species would continue. The Refuge boundary would remain the same. The Service would continue to work to finalize a Cooperative Agreement with PG&E to manage its adjacent lands. The Refuge would continue to be closed to public use except for occasional staff guided tours for schools and other groups.

Under Alternative B, the Refuge would be restored and managed to pre-industrial natural conditions (oak woodland on sandy soils) with limited and controlled public access. Most of the Refuge would be managed as upland habitat and blowout areas along the shore would be allowed and encouraged to erode and to be colonized by endangered species. Nonnative weeds would continue to be controlled using the same measures described in Alternative A. Weed control research would be expanded. As in Alternative A, the Service would continue to recontour existing dunes to make them steeper, as opportunities arise. Under this alternative, the Service would plant oak seedlings and native grasses in addition to the primrose, wallflower, and buckwheat. The Service would continue monitoring the primrose, wallflower, and Lange's populations and encouraging research on the Refuge. The Refuge boundary would remain the same as under Alternative A. Regularly scheduled tours of the Refuge would be conducted by Refuge staff. An outreach program would be developed to help expand the Refuge's presence and support in the community. Interpretive programs and facilities would be developed, including an automobile pull-out with an interpretive kiosk and a parking area for school and other groups. The Service would also promote the Refuge with teachers and develop an educator-led curriculum for Refuge resources.

Under Alternative C, the Refuge would be managed as a mosaic of dune habitat at varying successional stages with unrestricted public access. Nonnative weeds would continue to be controlled using the same measures as described in Alternative A. The Service would create a cycle of disturbance by scraping the soil in a mosaic pattern. In addition, the Service would construct additional dunes using imported sand in the areas that currently do not provide good habitat for endangered species. The Refuge's outplanting program would be expanded to include other native plant species, especially plants that are either locally significant and/or were historically present. The Service would continue monitoring the primrose, wallflower, and Lange's populations and encouraging research on the Refuge. Additional studies would be undertaken to assess the effects of management actions on other plants and animals, including reptiles and invertebrates, at the Refuge. Under this alternative, the Refuge would remove nonnative species such as Ailanthus and oleander from the river shore to the extent possible. Native species would be planted in their place. Parts of the river bank would be allowed to experience erosion and blowouts so that the endangered plants could colonize them. Under this alternative, the Refuge would initiate the Service's land acquisition planning process to investigate riparian easement and dune habitat acquisition from adjacent land owners. The Refuge would be opened to unrestricted access by the public. Environmental education, interpretation, wildlife observation, photography, and fishing would be allowed on the Refuge. Public use facilities and programs would be developed and staffed as described under Alternative B except that there would be fewer guided tours. In addition, the Refuge would construct a nature trail with interpretive signs, a fishing pier, and a restroom.

Under Alternative D, the Service's preferred alternative, the Refuge would be managed as a mosaic of dune habitat at habitat at varying successional stages with limited and controlled public access. Nonnative weeds would be controlled using the same measures as described in Alternative C. Also, nonnative weeds would be removed in some places after spraying by mechanical means to reduce biomass and woody nonnative plants would also be removed. Under this alternative, restoration and dune construction would be implemented as in Alternative C. However, Alternative D, would require more soil scraping to create disturbance than Alternative C. Outplanting, riparian restoration, monitoring, and land protection planning under this alternative would be the same as under Alternative C. Public use services and facilities would be similar to those under Alternative B.

Dated: October 26, 2001.
Steve Thompson,
Acting Manager, California/Nevada Operations Office, Fish and Wildlife Service, Sacramento, California.

[FR Doc. 01-27519 Filed 11-1-01; 8:45 am]

BILLING CODE 4310-55-P